DEPARTMENT OF EDUCATION

Federal Pell Grant, Federal Perkins Loan, Federal Work-Study, Federal Supplemental Educational Opportunity Grant, Federal Family Education Loan, and William D. Ford Federal Direct Loan Programs

Correction

In notice document 05-10584 beginning on page 30425 in the issue of Thursday, May 26, 2005, make the following corrections:

1. On page 30426, in the last table titled “Dependent students”, in the second column, under the heading “and there are” the entry “two one parents” should read “two parents”.

2. On the same page, in the same table, in the third column, under the heading, “and there are” the entry “two one parents” should read “two parents”.

3. On page 30427, in the first column, in the table titled “Dependent students”, under the heading “and there are” the entry “two one parents” should read “two parents”.

4. On the same page, in the last table, in the second column,, under the heading “Then the contribution is-”, in the second line, “−22% of AAI” should read “22% of AAI”.

[FR Doc. C5-10584 Filed 7-28-05; 8:45 am]

BILLING CODE 1505-01-D